NUCLEAR REGULATORY COMMISSION

[Docket No. 070-3098; NRC-2011-0081]

Notice of Consideration of Approval of Application Regarding Proposed Indirect Transfer of Control of the Construction Authorization for the Mixed Oxide Fuel Fabrication Facility in Aiken, SC; Correction

AGENCY: Nuclear Regulatory Commission.

ACTION: Notice; correction.

SUMMARY: The U.S. Nuclear Regulatory Commission (NRC) is correcting a notice that was published in the Federal Register on October 25, 2012 (77 FR 65208), regarding NRC consideration of an application for approval of an indirect transfer of control regarding Construction Authorization CAMOX-001. This action is necessary to correct the corporate name of the proposed transferee.

DATES: The correction is effective on January 30, 2013.

FOR FURTHER INFORMATION CONTACT: David Tiktinsky, Office of Nuclear Material Safety and Safeguards, U.S. Nuclear Regulatory Commission, Washington, DC 20555-0001; telephone: 301-492-3229; email: David.Tiktinsky@nrc.gov.

SUPPLEMENTARY INFORMATION: On October 25, 2012, the NRC published a notice in the Federal Register regarding NRC consideration of an application for approval of an indirect transfer of control regarding Construction Authorization CAMOX-001 (77 FR 65208). This document is necessary to correct a typographical error in the corporate name of the proposed transferee. On page 65208, in the second column, in the second full paragraph, the name of the proposed transferee is changed from “Chicago Bridge and Iron Company NV Shaw (CB&I Shaw)” to “Chicago Bridge and Iron Company NV (CB&I).”

Dated at Rockville, Maryland, this 25th day of January 2013.
For the Nuclear Regulatory Commission.
Leslie Terry,
Acting Chief, Rules, Announcements, and Directives Branch, Division of Administrative Services, Office of Administration.

[FR Doc. 2013-01959 Filed 1-29-13; 8:45 am]

BILLING CODE 7590-01-P